DEPARTMENT OF THE INTERIOR

Bureau of Reclamation

Agency Information Collection Activities Under OMB Review; Renewal of a Currently Approved Collection (OMB Control Number 1006-0028)

AGENCY: Bureau of Reclamation, Interior.

ACTION: Notice and request for comments.

SUMMARY: The Bureau of Reclamation has forwarded the following Information Collection Request (ICR) to the Office of Management and Budget (OMB) for review and approval: Recreation Visitor Use Surveys. The ICR describes the nature of the information collection and its expected cost burden.

DATES: OMB has up to 60 days to approve or disapprove this information collection, but may respond after 30 days; therefore, public comment must be received on or before September 1, 2011.

ADDRESSES: Please send your comments to the Desk Officer for the Department of the Interior at the Office of Management and Budget, Office of Information and Regulatory Affairs, via facsimile to (202) 395-5806, or e-mail to OIRA_DOCKET@omb.eop.gov. A copy of your comments should also be directed to the Bureau of Reclamation, Attention: Jerome Jackson (84-53000), P.O. Box 25007, Denver, CO 80225-0007, or directed via e-mail to jljackson@usbr.gov. Please reference OMB No. 1006-0028 in your comments.

FOR FURTHER INFORMATION CONTACT: For further information or a copy of the proposed forms, contact Jerome Jackson at the above address, or at (303) 445-2712.

SUPPLEMENTARY INFORMATION: Title: Recreation Visitor Use Surveys.

Abstract: The Bureau of Reclamation is responsible for recreation development at all of its reservoirs. Presently, there are 289 designated recreation areas on our lands within the 17 Western States. We must be able to respond to emerging trends, changes in the demographic profile of users, changing values, needs, wants and desires, and conflicts between user groups. Statistically valid and up-to-date data derived from the user is essential to developing and providing recreation programs relevant to today's visitor.

The required 60-day comment period for the Recreation Visitor Use Surveys was initiated by a notice published in the Federal Register on March 22, 2011 (76 FR 15997). One comment regarding the surveys was received on March 22, 2011. The comment suggested that the surveys are expensive, a waste of time, should not be conducted more often than every 5 years, or defunded and alleviated. However, implementation of the survey is in compliance with the Federal Lands Recreation Enhancement Act (REA), Public Law 108-447, enacted on December 8, 2004. The 11 surveys are each designed to enhance visitor satisfaction of Reclamation recreation areas and response to the surveys is completely voluntary.

Frequency: One time survey.

Respondents: Respondents to the surveys will be members of the public engaged in recreational activities on our lands. The surveys target people engaged in specific activities such as boating on a specific lake/river, or people camping at a developed campground. Visitors will primarily consist of local residents, people from large metropolitan areas in the vicinity of the lake/river, and visitors from out of state.

Estimated Total Number of Respondents: 6,141.

Estimated Number of Responses per Respondent: 1.0.

Estimated Total Number of Annual Responses: 6,141.

Estimated Total Annual Burden on Respondents: 2,044.

Estimate of Burden for Each Form
Survey instrument | Burden estimate per survey (in minutes) | Number of surveys (times/yr.) | Number of respondents per survey | Total Estimated number of respondents | Total Annual hour burden
Marina Survey | 20 | 2 | 278 | 556 | 185
Campground Survey | 25 | 2 | 278 | 556 | 232
River Instream Flow Survey | 25 | 2 | 278 | 556 | 232
Reservoir Preferred Water Level Survey | 25 | 2 | 278 | 556 | 232
Lake and River Visit Expenditure Survey | 15 | 2 | 278 | 556 | 139
Recreation Activities Survey | 25 | 2 | 278 | 556 | 232
Recreation Management Survey | 20 | 2 | 278 | 556 | 185
Recreation Fee Survey | 10 | 1 | 581 | 581 | 97
Recreation Development Survey | 10 | 2 | 278 | 556 | 93
Water Level Impact on Recreation Boating Use Survey | 20 | 2 | 278 | 556 | 185
River Recreation Quality Survey | 25 | 2 | 278 | 556 | 232
Totals |  |  |  | 6,141 | 2,044

In addition, there are an estimated 1,575 number of contacts who will not respond.

These nonrespondents account for 13 total burden hours per year.

Comments

Comments are invited on:

(a) Whether the proposed collection of information is necessary for the proper performance of our functions, including whether the information will have practical use;

(b) The accuracy of our burden estimate for the proposed collection of information, including the validity of the methodology and assumptions used;

(c) Ways to enhance the quality, usefulness, and clarity of the information to be collected; and

(d) Ways to minimize the burden of the collection of information on respondents.

An agency may not conduct or sponsor, and a person is not required to respond to a collection of information unless it displays a currently valid OMB control number. Reclamation will display a valid OMB control number on the forms.

Before including your address, phone number, e-mail address, or other personal identifying information in your comment, you should be aware that your entire comment, including your personal identifying information, may be made publicly available at any time. While you can ask us in your comment to withhold your personal identifying information from public review, we cannot guarantee that we will be able to do so.

Dated: July 26, 2011.
Roseann Gonzales,
Director, Policy and Administration.

[FR Doc. 2011-19514 Filed 8-1-11; 8:45 am]

BILLING CODE 4310-MN-P